DEPARTMENT OF AGRICULTURE

Solicitation of Nominations for Membership on the Equity Commission Advisory Committee and Equity Commission Subcommittee on Agriculture Extension of Application Period

AGENCY: United States Department of Agriculture (USDA).

ACTION: Notice extending the nomination application period for the USDA Equity Commission and its Subcommittee on Agriculture.

SUMMARY: On September 27, 2021, the United State Department of Agriculture published in the Federal Register a notice of intent to establish and solicit nominations for membership on the USDA Equity Commission and its Subcommittee on Agriculture. The nomination application period for this notice has been extended in order to provide additional opportunities for interested persons to submit their nomination application. The nomination application period for individuals who wish to serve and/or submit nominations to recommend potential candidates for the Equity Commission and/or Subcommittee on Agriculture has been extended until November 20, 2021. A complete application consists of the three documents listed in the initial notice: (1) Brief summary of qualifications for the position (e.g., a letter of interest that explains how the candidate's experience would contribute to the Commission), (2) résumé, and (3) background disclosure form (Form AD-755).

DATES: The application for membership on the Equity Commission and its Sub-Committee for Agriculture published on September 27, 2021, (86 FR 53265), has been extended from October 27, 2021 to November 30, 2021.

ADDRESSES: Individuals who are interested in being considered for the USDA Equity Commission and/or Subcommittee on Agriculture may submit a nomination application using the criteria identified in the solicitation notice.¹ Applications or nominations should be sent via email to equitycommission@usda.gov. Alternately, applications can be sent by mail to the Dr. Dewayne L. Goldmon, USDA Senior Advisor for Racial Equity, Office of the Secretary, Department of Agriculture, 1400 Independence Avenue SW, Room 6006-S, Washington, DC 20250. Submit applications via one method only, either via email or mail, not both. A Federal Official of USDA will acknowledge receipt of nominations.

¹ Footnotes

1. See, 86 FR 53265 (September 27, 2021).

[FR Doc. 2021-20840 Filed 9-24-21; 8:45 a.m.]

FOR FURTHER INFORMATION CONTACT: Equitycommission@usda.gov or Dewayne L. Goldmon, Ph.D.; telephone: (202) 997-2100; email: dewayne.goldmon@usda.gov.

SUPPLEMENTARY INFORMATION: The USDA Equity Commission and its Subcommittee on Agriculture was established on October 14, 2021 by the Secretary of Agriculture in accordance with section 1006(a)(3) of the American Rescue Plan Act of 2021 (thereafter, the ARP Act) and the Federal Advisory Committee Act (FACA). The ARP Act directs the Secretary of the United States Department of Agriculture to create an Equity Commission to advise the Agency in “address[ing] historical discrimination and disparities in the agriculture sector,” which includes “fund[ing] one or more equity commissions to address racial equity issues within USDA and its programs.” Public Law 117-2.

On September 27, 2021 at 86 FR 53265, USDA published in the Federal Register a notice of intent to establish the Equity Commission and solicit nominations for memberships to the Equity Commission and its subcommittee. This notice stated the application period would close on Wednesday, October 27, 2021. At this time, the nomination application period for this notice has been extended in order to provide additional opportunities for interested persons to submit an application. The nomination application period for individuals who wish to serve or submit nominations for potential candidates for the Equity Commission and its subcommittee has been extended until November 30, 2021. Accordingly, applications now received after Wednesday, October 27, 2021 to November 30, 2021 will also be considered.

Dated: October 22, 2021.
Cikena Reid,
Committee Management Officer, USDA.

[FR Doc. 2021-23425 Filed 10-26-21; 8:45 am]

BILLING CODE 3410-01-P